DEPARTMENT OF HEALTH AND HUMAN SERVICES

Centers for Disease Control and Prevention

Disease, Disability, and Injury Prevention and Control Special Emphasis Panel: Research To Improve Smoke Alarm Maintenance and Function, Program Announcement 03100

In accordance with section 10(a)(2) of the Federal Advisory Committee Act (Pub. L. 92-463), the Centers for Disease Control and Prevention (CDC) announces the following meeting:

Name: Disease, Disability, and Injury Prevention and Control Special Emphasis Panel (SEP): Research to Improve Smoke Alarm Maintenance and Function, Program Announcement 03100.

Times And Dates: 6:30 p.m.-7 p.m., July 27, 2003 (Open). 7 p.m.-8 p.m., July 27, 2003 (Closed). 8:30 a.m.-5 p.m., July 28, 2003 (Closed).

Place: The Swissotel Atlanta Buckhead, 3391 Peachtree Road, NE., Atlanta, GA 30326, Telephone 404.365.0065.

Status: Portions of the meeting will be closed to the public in accordance with provisions set forth in section 552b(c)(4) and (6), Title 5 U.S.C., and the Determination of the Director, Management Analysis and Services Office, CDC, pursuant to Public Law 92-463.

Matters To Be Discussed: The meeting will include the review, discussion, and evaluation of applications received in response to Program Announcement 03100.

FOR FURTHER INFORMATION CONTACT: Jean Langlois, Sc.D., Epidemiologist, Division of Injury and Disability Outcomes and Programs, National Center for Injury Prevention and Control, CDC, 4770 Buford Highway, NE, Atlanta, GA 30341, Telephone 770.488.1478.

The Director, Management Analysis and Services Office, has been delegated the authority to sign Federal Register notices pertaining to announcements of meetings and other committee management activities, for both CDC and the Agency for Toxic Substances and Disease Registry.

Dated: July 7, 2003.
Diane C. Allen,
Acting Director, Management Analysis and Services Office, Centers for Disease Control and Prevention.

[FR Doc. 03-17560 Filed 7-10-03; 8:45 am]

BILLING CODE 4163-18-P